INTERNATIONAL TRADE COMMISSION

[Investigation No. 337-TA-1446]

Certain Active Electrical Cables and Components Thereof; Notice of a Commission Decision Not To Review an Initial Determination Amending the Complaint and Notice of Investigation

AGENCY: U.S. International Trade Commission.

ACTION: Notice.

SUMMARY: Notice is hereby given that the U.S. International Trade Commission has determined not to review an initial determination (“ID”) (Order No. 7) of the presiding administrative law judge (“ALJ”) granting a motion to amend the complaint and notice of investigation to terminate one respondent and add another.

FOR FURTHER INFORMATION CONTACT: Sidney A. Rosenzweig, Office of the General Counsel, U.S. International Trade Commission, 500 E Street SW, Washington, DC 20436, telephone (202) 708-2532. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal, telephone (202) 205-1810.

SUPPLEMENTARY INFORMATION: On April 18, 2025, the Commission instituted this investigation based on a complaint filed by Credo Semiconductor Inc. of San Jose, California and Credo Technology Group Ltd. of the Cayman Islands (collectively, “Credo”). 90 FR 16551 (Apr. 18, 2025). The complaint alleged violations of section 337 of the Tariff Act of 1930, as amended, 19 U.S.C. 1337, based upon the importation into the United States, the sale for importation, and the sale within the United States after importation of certain active electrical cables and components thereof by reason of the infringement of certain claims of U.S. Patent Nos. 10,877,233; 11,012,252; and 11,032,111. Id. The Commission's notice of investigation named the following respondents: Amphenol Corporation of Wallingford, Connecticut; Molex, LLC of Lisle, Illinois; and TE Connectivity PLC of Galway, Ireland (“TE PLC”). Id. at 16552. The Office of Unfair Import Investigations is a party to this investigation. Id.

On May 23, 2025, Credo moved for leave to amend the complaint and notice of investigation to terminate TE PLC and add TE Connectivity Corporation of Berwyn, Pennsylvania (“TECC”) as a respondent. The motion was unopposed. The motion explained that good cause existed for the substitution of respondents, because TECC is the operating company responsible for importation and sale of accused products, and TE PLC is a holding company without such responsibility.

On May 28, 2025, the ALJ issued the subject ID (Order No. 7) pursuant to Commission Rules 210.14(b)(1) and 210.21(a), 19 CFR 210.14(b)(1) and 19 CFR 210.21(a). The ID explains that good cause exists for the substitution of respondents because Credo did not know about TECC's role until discovery commenced. The ID also finds that there will be no prejudice to TECC or to the public interest.

No petitions for Commission review of the ID were filed. The Commission has determined not to review the ID.

The Commission vote for this determination took place on June 20, 2025.

The authority for the Commission's determination is contained in section 337 of the Tariff Act of 1930, as amended (19 U.S.C. 1337), and in Part 210 of the Commission's Rules of Practice and Procedure (19 CFR part 210).

By order of the Commission.
Issued: June 26, 2025.
Lisa Barton,
Secretary to the Commission.

[FR Doc. 2025-12047 Filed 6-27-25; 8:45 am]

BILLING CODE 7020-02-P